DEPARTMENT OF AGRICULTURE

Food and Nutrition Service

Agency Information Collection Activities: Proposed Collection; Comment Request; Form FNS-471, Coupon Account and Destruction Report

AGENCY: Food and Nutrition Service, USDA.

ACTION: Notice.

SUMMARY: In accordance with the Paperwork Reduction Act of 1995, this notice invites the general public and other public agencies to comment on a proposed revision of a currently approved information collection contained in Form FNS-471, Coupon Account and Destruction Report.

DATES: Written comments must be submitted on or before May 30, 2003.

ADDRESSES: Send comments and requests for copies of this information collection to: Lizbeth Silbermann, Chief, Electronic Benefits Transfer Branch, Benefit Redemption Division, Food and Nutrition Service, U.S. Department of Agriculture, 3101 Park Center Drive, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for Office of Management and Budget (OMB) approval. All comments will also become a matter of public record.

FOR FURTHER INFORMATION CONTACT: Lizbeth Silbermann, Chief, Electronic Benefits Transfer Branch, (703) 305-2517.

SUPPLEMENTARY INFORMATION: Title: Coupon Account and Destruction Report.

OMB Number: 0584-0053.

Form Number: FNS-471.

Expiration Date: 03/31/2003.

Type of Request: Revision of a currently approved collection

Abstract: Section 7(d) of the Food Stamp Act of 1977, (7 U.S.C. 2016(d)), requires that State agencies determine and monitor food stamp coupon inventories. Section 7(f) requires that the States are strictly liable for all coupon losses except when the coupons are sent through the mail. The Food Stamp Program regulations at 7 CFR 274.7(f)-(h) require State agencies to properly dispose of certain coupons received at issuance, claims collection, inventory, and bulk storage points. These are destroyed within 30 days after the end of the month in which the coupons are received if the coupons are not suitable for a return to inventories. These include mutilated coupons, improperly manufactured coupons, or old-series coupons being exchanged for current series coupons. Coupons may be returned to local offices if found by the public, returned by recipients as payment on claims, or returned for other reasons. These coupons will likely be destroyed rather than returned to inventories and the FNS-471 is the document used to account for amounts destroyed.

Food Stamp Program coupons are Federal obligations and must be accounted for by denomination and value whether loose or in book form. The FNS-471, Coupon Account and Destruction Report, is completed by staff in local offices and sent to destruction points where the destruction point staff sign the form certifying destruction has occurred. A signed copy is returned to the originating local office. The FNS-471 is attached as documentation to other monthly coupon accountability reports.

Estimate of Burden

The proposed revision to the information collection burden for the FNS-471 reflects a reduction because of the legislated change from paper coupon issuance to electronic benefits transfer (EBT) issuance systems. Currently, just over 90 percent of Food Stamp Program benefits are issued using EBT systems. This leaves a small and declining portion in the form of paper coupons. Coupon issuance declines as State agencies implement Electronic Benefits Transfer (EBT) systems and eliminate coupons. Based on State EBT implementation schedules, there should be no coupon issuance by January 2005. In Fiscal Year 2002, the amount of coupons issued was $2.59 billion, down from $6.2 billion in Fiscal Year 1999 when this collection burden was last renewed. This represents a reduction of about 58 percent. The number of respondents is being reduced using the same percentage from 9,276 to 3,896 respondents. The estimated time per response is 7 minutes to complete the form and the forms are used monthly. The resulting burden hours are 5,454 hours annually.

Affected Public: State and local government employees and recipients.

Estimated Number of Respondents: 3,896.

Estimated Number of Responses per Respondent: 12.

Estimated Time per Response: 7 minutes.

Estimated Total Annual Burden: 5,454 hours annually.

Dated: March 25, 2003.
George A. Braley,
Associate Administrator, Food and Nutrition Service.

[FR Doc. 03-7608 Filed 3-28-03; 8:45 am]

BILLING CODE 3410-30-P